DEPARTMENT OF ENERGY

Federal Energy Regulatory Commission

[Docket No. EC04-83-001, et al.]

Aquila, Inc., et al.; Electric Rate and Corporate Filings

April 2, 2004.

The following filings have been made with the Commission. The filings are listed in ascending order within each docket classification.

1. Aquila, Inc., Aquila Long Term, Inc.

[Docket No. EC04-83-001]

Take notice that on March 31, 2004, Aquila, Inc. and Aquila Long Term, Inc. (Applicants), filed revisions to their application filed March 26, 2004, pursuant to section 203 of the Federal Power Act and section 33 of the Commission's regulations requesting approval of the transfer of two power sales agreements to Tor Power, LLC.

Comment Date: April 21, 2004.

2. Duke Energy Trading and Marketing, L.L.C.

[Docket No. EC04-85-000]

Take notice that on March 31, 2004, Duke Energy Trading and Marketing, L.L.C. (DETM) filed with the Commission an application pursuant to section 203 of the Federal Power Act for authorization of the transfer by DETM of certain wholesale power contracts to Williams Power Company, Inc.

Comment Date: April 21, 2004

3. TransCanada Corporation, TransCanada PipeLines Limited, TransCanada PipeLine USA Ltd., Manchief Holding Company, TCPL Power (Colorado) Inc., Manchief Inc., TransCanada (Curtis Palmer) Ltd., TransCanada (Hydroelectric) USA Ltd., TCPL Power (New York) Inc., Curtis Palmer Inc.

[Docket No. EC04-86-000]

Take notice that on March 31, 2004, TransCanada Corporation, TransCanada PipeLines Limited, TransCanada PipeLine USA Ltd., Manchief Holding Company, TCPL Power (Colorado) Inc., Manchief Inc., TransCanada (Curtis Palmer) Ltd., TransCanada (Hydroelectric) USA Ltd., TCPL Power (New York) Inc., and Curtis Palmer Inc. (jointly, Applicants) filed an application under section 203 of the Federal Power Act (FPA) requesting authorization for (1) a proposed change in the upstream ownership of Manchief Power LLC (Manchief Power) and Curtis Palmer Hydroelectric Company L.P. (Curtis Palmer), both of which own generating plants and facilities that are subject to the Commission's jurisdiction under the FPA and (2) the conversion of certain corporations that are upstream owners of Manchief Power and Curtis Palmer to limited liability companies. Applicants request expedited consideration of the Application and privileged treatment for certain exhibits pursuant to 18 CFR 33.9 and 388.112.

Comment Date: April 21, 2004.

4. Innovative Energy Consultants Inc., SE Holdings LLC, Strategic Energy LLC

[Docket No. EC04-87-000]

Take notice that on March 31, 2004, Innovative Energy Consultants Inc. (IEC), SE Holdings, LLC (SE Holdings), and Strategic Energy LLC (Strategic Energy) filed with the Commission an application pursuant to section 203 of the Federal Power Act for authorization of a disposition of jurisdictional facilities whereby SE Holdings will sell to IEC a portion of its indirect interests in Strategic Energy, a power marketer that has received market-based rate authority from the Commission. Applicants state that the transaction will have no adverse effect on competition, rates or regulation.

Comment Date: April 21, 2004.

5. American Electric Power Service Corporation, Oklaunion Electric Generating Cooperative, Inc., and Golden Spread Electric Cooperative, Inc.

[Docket No. EC04-88-000]

Take notice that on April 1, 2004, American Electric Power Service Corporation (AEPSC), acting on behalf of its electric utility subsidiary, AEP Texas Central Company, formerly known as Central Power and Light Company (TCC), Golden Spread Electric Cooperative, Inc. (Golden Spread) and Oklaunion Electric Generating Cooperative, Inc., (OEGC) submitted an application for approval of the transfer by TCC to OEGC of certain jurisdictional facilities associated with TCC's 7.81% undivided ownership interest in the 690 MW Oklaunion Unit No.1, pursuant to section 203 of the Federal Power Act (Act), 16 U.S.C. 824b (2003), and part 33 of the regulations of the Commission, as revised pursuant to Order No. 642, FERC Stats. & Regs. ¶31,111 (2000). Such transfer is proposed to be made to comply with the Texas Public Utility Regulatory Act. AEPSC request expedited consideration of the application and privileged treatment of certain exhibits to the application.

AEPSC states that a copy of the filing has been served on the Public Utility Commission of Texas and the Oklahoma Corporation Commission.

Comment Date: April 22, 2004.

6. Pacific Gas and Electric Company

[Docket No. ER03-1091-003]

Take notice that on March 5, 2004, Pacific Gas and Electric Company (PG&E) submitted a refund report in response to and in compliance with the Commission's November 6, 2003, letter order regarding various generator interconnection agreements in Docket Nos. ER03-1091-000 and -001.

PG&E states that copies of this filing have been served upon Weillhead Power Panoche, LLC, Wellhead Power Gates, LLC, CalPeak Power Vaca Dixon, LLC, High Winds, LLC, Energy Transfer—Hanover Ventures, LP, Duke Energy Morro Bay, Global Renewable Energy Partners, Inc., the California Independent System Operator Corporation, and the California Public Utilities Commission.

Comment Date: April 12, 2004.

7. Midwest Independent Transmission System Operator, Inc.

[Docket No. ER04-691-000]

Take notice that on March 31, 2004, the Midwest Independent Transmission System Operator, Inc. (Midwest ISO) submitted its revised Open Access Transmission and Energy Markets Tariff (Tariff) consistent with earlier Commission orders, 102 FERC ¶61,196 (2003); order on reh'g, 103 FERC ¶61,120 (2003); 105 FERC ¶ 61,145 (2003), reh'g denied, 105 FERC ¶61,272 (2003). The Tariff includes those terms and conditions that the Midwest ISO states are necessary for the implementation of the Midwest ISO's Centralized Security Constrained Economic dispatch supported by Day-Ahead and Real-Time Energy Markets and congestion management provisions based on Locational Marginal Pricing and Financial Transmission Rights within the Midwest ISO Region.

The Midwest ISO has also requested waiver of the service requirements set forth in 18 CFR 385.2010. The Midwest ISO has electronically served a copy of this filing, with attachments, upon all Midwest ISO Members, Member representatives of Transmission Owners and Non-Transmission Owners, the Midwest ISO Advisory Committee participants, Policy Subcommittee participants, as well as all State commissions within the region. In addition, the filing has been electronically posted on the Midwest ISO's Web site at www.midwestiso.org under the heading “Filings to FERC” for other interested parties in this matter. The Midwest ISO will provide hard copies to any interested parties upon request.

Comment Date: May 7, 2004.

8. Midwest Energy, Inc.

[Docket No. ES04-17-000]

Take notice that on March 26, 2004, the Midwest Energy, Inc. (Midwest Energy) submitted an application pursuant to section 204 of the Federal Power Act requesting that the Commission: (1) Authorize Midwest Energy to borrow up to $38 million in long-term debt under a Loan Agreement between Midwest Energy and the National Rural Utilities Cooperative Finance Corporation during the two-year period commencing July 1, 2004; and (2) authorize Midwest Energy to borrow up to $15 million in short-term debt during the two year period commencing July 1, 2004.

Midwest Energy also requests a waiver from the Commission's competitive bidding and negotiated placement requirements at 18 CFR 34.2.

Comment Date: April 22, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Linda Mitry,
Acting Secretary.

[FR Doc. E4-787 Filed 4-8-04; 8:45 am]

BILLING CODE 6717-01-P